DEPARTMENT OF AGRICULTURE

Forest Service

Siskiyou County Resource Advisory Committee

AGENCY: Forest Service, USDA.

ACTION: Notice of meeting.

SUMMARY: The Siskiyou County Resource Advisory Committee will meet in Yreka, California, November 17, 2003. The meeting will include routine business and a discussion of larger scale projects.

DATES: The meeting will be held November 17, 2003, from 4 p.m. until 6 p.m.

ADDRESSES: Don Hall, RAC Coordinator, Klamath National Forest, (530) 841-4468 or electronically at donaldhall@fs.fed.us.

FOR FURTHER INFORMATION CONTACT: The meeting is open to the public. Public comment opportunity will be provided and individuals will have the opportunity to address the Committee at that time.

Dated: October 31, 2003.
Margaret J. Boland,
Designated Federal Official.

[FR Doc. 03-28093 Filed 11-6-03; 8:45 am]

BILLING CODE 3410-11-M